DEPARTMENT OF THE INTERIOR

Bureau of Ocean Energy Management

[OMB Number 1010-0082; MMAA104000]

Information Collection: Leasing of Minerals Other Than Oil, Gas, and Sulphur in the Outer Continental Shelf; Submitted for OMB Review; Comment Request

ACTION: 30-day notice.

SUMMARY: To comply with the Paperwork Reduction Act of 1995 (PRA), the Bureau of Ocean Energy Management (BOEM) is notifying the public that we have submitted an information collection request (ICR) to the Office of Management and Budget (OMB) for review and approval. The ICR concerns the paperwork requirements in the regulations under 30 CFR part 581, Leasing of Minerals Other than Oil, Gas, and Sulphur in the Outer Continental Shelf. This notice provides the public a second opportunity to comment on the paperwork burden of this collection.

DATES: Submit written comments by October 8, 2014.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0082 in your comment and include your name and return address.

FOR FURTHER INFORMATION CONTACT: Arlene Bajusz, Office of Policy, Regulations, and Analysis at arlene.bajusz@boem.gov (email) or (703) 787-1025 (phone). You may review the ICR online at http://www.reginfo.gov. Follow the instructions to review Department of the Interior collections under review by OMB.

SUPPLEMENTARY INFORMATION:

OMB Control Number: 1010-0082.

Title: 30 CFR part 581, Leasing of Minerals Other than Oil, Gas, and Sulphur in the Outer Continental Shelf.

Abstract: The Outer Continental Shelf (OCS) Lands Act (Act), as amended (43 U.S.C. 1337), authorizes the Secretary of the Interior (Secretary) to grant to the qualified persons, offering the highest cash bonuses on a basis of competitive bidding, leases of any mineral other than oil, gas, and sulphur. This applies to any area of the OCS not then under lease for such mineral upon royalty, rental, and other terms and conditions that the Secretary may prescribe at the time of the lease offer. The Secretary is to administer the leasing provisions of the Act and prescribe the rules and regulations necessary to carry out those provisions.

Regulations at 30 CFR part 581 implement these statutory requirements. There has been no leasing activity in the OCS for minerals other than oil, gas, or sulphur for many years; however, because these are regulatory requirements, the potential exists for information to be collected. Therefore, we are renewing OMB approval for this information collection.

BOEM will use the information required by 30 CFR part 581 to determine if statutory requirements are met prior to the issuance of a lease. Specifically, BOEM will use the information to:

• Evaluate the area and minerals requested by the lessee to assess the viability of offering leases for sale and ensure the Federal Government receives fair market value for the mineral(s);

• Request the State(s) to initiate the establishment of a joint group to assess the proposed action;

• Ensure excessive overriding royalty interests are not created that would put economic constraints on all parties involved;

• Document that a leasehold or geographical subdivision has been surrendered by the record title holder; and

• Determine if activities on the proposed lease area(s) will have a significant impact on the environment.

We protect proprietary information according to the Freedom of Information Act (5 U.S.C. 552) and its implementing regulations (43 CFR part 2), and 30 CFR Parts 580 and 582. No items of a sensitive nature are collected. Responses are mandatory or required to obtain a benefit.

Frequency: On occasion.

Description of Respondents: As there are no active respondents, we estimate the potential annual number of respondents to be one. Potential respondents are OCS lease requestors, State governments, and OCS lessees.

Estimated Reporting and Recordkeeping Hour Burden: We expect the annual reporting burden for this renewal to be 1,264 hours. The following table details the individual components and respective hour burden estimates of this ICR. In calculating the burdens, we assumed that respondents perform certain requirements in the normal course of their activities. We consider these to be usual and customary and took that into account in estimating the burden.

Burden Breakdown
Citation 30 CFR Part 581 | Reporting and/or recordkeeping requirements * | Non-hour cost burden(s) *: Hour burden | Non-hour cost burden(s) *: Average number of annual reponses | Non-hour cost burden(s) *: Annual burden hours
Subpart A—General
6 | Appeal decisions | Exempt under 5 CFR 1320.4(a)(2), (c). |  | 0
9 | Governor of affected States initiates negotiations on jurisdictional controversy, etc., and enters agreement with BOEM | 16 | 1 request | 16
Subtotal |  |  | 1 Response | 16
Subpart B—Leasing Procedures
11(a), (c) | Submit request for approval for mineral lease with required information | 60 | 1 request | 60
12; all sections; Previously overlooked | Submit general response to Call for Information and Interest on areas for leasing of minerals (other than oil, gas, sulphur) in accordance with approved lease program, including information from States/local governments, industry, Federal agencies | Not considered IC as defined in 5 CFR 1320.3(h)(4). |  | 0
12; all sections | Submit specific response to Call for Information and Interest on areas for leasing of minerals (other than oil, gas, sulphur) in accordance with approved lease program, including information from States/local governments, industry, Federal agencies | 120 | 1 response | 120
13; 16 | States or local governments establish task force; submit comments/recommendations on planning, coordination, consultation, and other issues that may contribute to the leasing process | 200 | 1 comment | 200
All sections; 16 | Submit suggestions and relevant information in response to request for comments on the proposed leasing notice, including information from States/local governments | 160 | 1 submittal | 160
18; 20(e), (f); 26(a), (b) | Submit bids (oral or sealed) and required information | 250 | 1 response | 250
18(b)(3), (c); 20(e), (f) | Tie bids—submit oral bids for highest bidder | 20 | 1 response | 20
20(a), (b), (c); 41(a) | Establish a company file for qualification, submit updated information, submit qualifications for lessee/bidder and required information | 58 | 1 response | 58
21(a); 47(c) | Request for reconsideration of bid rejection/cancellation | Not considered IC per 5 CFR 1320.3(h)(9). |  | 0
21(b), (e); 23; 26(e), (i); 40(b); 41 | Execute lease (includes submission of evidence of authorized agent and request for dating of leases); maintain auditable records re 30 CFR Chapter XII, Subchapter A—[burden under ONRR requirements] | 100 | 1 lease | 100
Subtotal |  |  | 8 Responses | 968
Subpart C—Financial Considerations
31(b); 41 | File application and required information for assignment or transfer for approval | 160 | 1 application | 160
|  | $50 for required or non-required filing document fee × 1 = $50.
32(b), (c) | File application for waiver, suspension, or reduction and required documentation | 80 | 1 application | 80
33; 41(c) | Submit surety or personal bond | Burden covered under 1010-0081. |  | 0
Subtotal |  |  | 2 Responses | 240
|  |  | $50 Non-hour cost burden.
Subpart E—Termination of Leases
46 | File written request for relinquishment | 40 | 1 Response | 40
TOTAL BURDEN |  |  | 12 Responses | 1,264
|  |  | $50 Non-hour cost burden.
* In the future, BOEM may require electronic filing of certain submissions.

Estimated Reporting and Recordkeeping “Non-Hour Cost” Burden: We have identified one non-hour cost burden for this collection, a $50 filing fee for required or non-required documents under 30 CFR 581.41.

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

To comply with the public consultation process, on April 17, 2014, BOEM published a Federal Register notice (79 FR 21806) announcing that we would submit this ICR to OMB for approval. This notice provided the required 60-day comment period. We received no comments.

Public Availability of Comments: Before including your address, phone number, email address, or other personal identifying information in your comment, you should be aware that your entire comment—including your personal identifying information—may be made publicly available at any time. While you can ask us in your comment to withhold your personal identifying information from public review, we cannot guarantee that we will be able to do so.

Dated: August 14, 2014.
Deanna Meyer-Pietruszka,
Chief, Office of Policy, Regulations, and Analysis.

[FR Doc. 2014-21296 Filed 9-5-14; 8:45 am]

BILLING CODE 4310-MR-P